FARM CREDIT ADMINISTRATION

Sunshine Act Meeting; Farm Credit Administration Board; Regular Meeting

AGENCY: Farm Credit Administration.

SUMMARY: Notice is hereby given, pursuant to the Government in the Sunshine Act (5 U.S.C. 552b(e)(3)), of the regular meeting of the Farm Credit Administration Board (Board).

DATE AND TIME: The regular meeting of the Board will be held at the offices of the Farm Credit Administration in McLean, Virginia, on November 13, 2003, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—October 9, 2003 (Open)

B. Reports

• Corporate/Non-corporate Approvals

• Financial Institution Rating System (FIRS)—Sensitivity to Risk

• Capital Markets Specialist Program

• Human Development Investment Group—Update

• Rotational Assignments as Training and Development

• Loan Syndications—Update

• Rural Home Lending—Request for Regulatory Exception

C. New Business—Regulations

• YBS Proposed Rule—Reopening of Comment Period

Closed Session*

Reports

• Allowance for Loan Losses—Update

Dated: November 6, 2003.
Jeanette C. Brinkley,
Secretary, Farm Credit Administration Board.

* Session Closed-Exempt pursuant to 5 U.S.C. 552b(c)(4), (8) and (9).

[FR Doc. 03-28292 Filed 11-6-03; 11:12 am]

BILLING CODE 6705-01-P